INTERNATIONAL TRADE COMMISSION

[Investigation Nos. 701-TA-562 and 731-TA-1329 (Review)]

Ammonium Sulfate From China

Determination

On the basis of the record ¹ developed in the subject five-year reviews, the United States International Trade Commission (“Commission”) determines, pursuant to the Tariff Act of 1930 (“the Act”), that revocation of the countervailing and antidumping duty orders on ammonium sulfate from China would be likely to lead to continuation or recurrence of material injury to an industry in the United States within a reasonably foreseeable time.

¹ The record is defined in § 207.2(f) of the Commission's Rules of Practice and Procedure (19 CFR 207.2(f)).

Background

The Commission instituted these reviews on February 1, 2022 (87 FR 5503) and determined on May 9, 2022, that it would conduct full reviews (87 FR 29878, May 17, 2022). Notice of the scheduling of the Commission's reviews and of a public hearing to be held in connection therewith was given by posting copies of the notice in the Office of the Secretary, U.S. International Trade Commission, Washington, DC, and by publishing the notice in the Federal Register on August 3, 2022 (87 FR 47463). Since no party to the reviews requested a hearing, the public hearing in connection with the reviews, originally scheduled for December 6, 2022, was cancelled (87 FR 79352, December 27, 2022).

The Commission made these determinations pursuant to section 751(c) of the Act (19 U.S.C. 1675(c)). It completed and filed its determinations in these reviews on February 8, 2022. The views of the Commission are contained in USITC Publication 5402 (February 2023), entitled Ammonium Sulfate from China: Investigation Nos. 701-TA-562 and 731-TA-1329 (Review).

By order of the Commission.
Issued: February 8, 2023.
Katherine Hiner,
Acting Secretary to the Commission.

[FR Doc. 2023-03067 Filed 2-13-23; 8:45 am]

BILLING CODE 7020-02-P